DEPARTMENT OF JUSTICE

[OMB Number 1122-2NEW]

Agency Information Collection Activities; Extension of Previously Approved eCollection eComments Requested; Semi-Annual Performance Reporting Form for the Demonstration Program on Trauma-Informed, Victim-Centered Training for Law Enforcement on Domestic Violence, Dating Violence, Sexual Assault, and Stalking (Abby Honold Program)

AGENCY: Office on Violence Against Women, Department of Justice.

ACTION: 30-Day notice.

SUMMARY: The Department of Justice (DOJ), Office on Violence Against Women, will be submitting the following information collection request to the Office of Management and Budget (OMB) for review and approval in accordance with the Paperwork Reduction Act of 1995.

DATES: Comments are encouraged and will be accepted for 30 days until February 23, 2026.

FOR FURTHER INFORMATION CONTACT: If you have comments especially on the estimated public burden or associated response time, suggestions, or need a copy of the proposed information collection instrument with instructions or additional information, please contact: Tiffany Watson, Office on Violence Against Women, at 202-307-6026 or Tiffany.Watson@usdoj.gov.

SUPPLEMENTARY INFORMATION: The proposed information collection was previously published in the Federal Register on November 21, 2025, 90 FR 52705, allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1122-2NEW. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New collection.

2. Title of the Form/Collection: Semi-annual Performance Reporting Form for the Demonstration Program on Trauma-Informed, Victim-Centered Training for Law Enforcement on Domestic Violence, Dating Violence, Sexual Assault, and Stalking (Abby Honold Program).

3. Agency form number, if any, and the applicable component of the Department of Justice sponsoring the collection: Form Number: 1122-2NEW. U.S. Department of Justice, Office on Violence Against Women.

4. Affected public who will be asked or required to respond, as well as a brief abstract: Grantees from the Abby Honold Program, which include: State, territorial, local, and/or Tribal law enforcement agencies that investigate crimes involving sexual assault.

5. An estimate of the total number of respondents and the amount of time estimated for an average respondent to respond/reply: It is estimated that it will take the approximately 6 respondents, who are Abby Honold Program grantees, approximately one hour to complete a performance reporting form that is specific to the activities for which they receive funding. In addition, a grantee will only be required to complete the sections of the form that pertain to those specific activities that are supported by the Abby Honold Program funding and permissible under the authorizing legislation.

6. An estimate of the total public burden (in hours) associated with the collection: The total hour burden to complete the data collection form is 12 hours, that is 6 grantees completing a form twice a year with an estimated completion time for the form being one hour.

7. An estimate of the total annual cost burden associated with the collection, if applicable: The annualized costs to the Federal Government resulting from the OVW staff review of the progress reports submitted by grantees are estimated to be $696.00.

8. Total Burden Hours:

Activity | Estimated number of respondents | Frequency | Total annual responses (times) | Time per response (hour) | Total annual burden (hours)
Performance Reporting Form | 6 | Semi-annually | 2 | 1 | 12
Total |  |  |  |  | 12

If additional information is required contact: Darwin Arceo, Department Clearance Officer, United States Department of Justice, Justice Management Division, Enterprise Portfolio Management, Two Constitution Square, 145 N Street NE, 4W-218, Washington, DC.

Dated: January 21, 2026.
Darwin Arceo,
Department Clearance Officer for PRA, U.S. Department of Justice.

[FR Doc. 2026-01264 Filed 1-22-26; 8:45 am]

BILLING CODE 4410-FX-P